DEPARTMENT OF COMMERCE

Bureau of Industry and Security

15 CFR Part 744

[Docket No. 250324-0047]

RIN 0694-AK08

Additions to the Entity List

AGENCY: Bureau of Industry and Security, Department of Commerce.

ACTION: Final rule.

SUMMARY: In this rule, the Bureau of Industry and Security (BIS) amends the Export Administration Regulations (EAR) by adding 12 entities to the Entity List, under the destinations of China, People's Republic of (China) (11) and Taiwan (1). These entities have been determined by the U.S. Government to be acting contrary to the national security or foreign policy interests of the United States.

DATES: This rule is effective March 25, 2025.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List

The Entity List (supplement no. 4 to part 744 of the EAR (15 CFR parts 730-774)) identifies entities for which there is reasonable cause to believe, based on specific and articulable facts, that the entities have been involved, are involved, or pose a significant risk of being or becoming involved in activities contrary to the national security or foreign policy interests of the United States, pursuant to § 744.11(b). The EAR imposes additional license requirements on, and limits the availability of, most license exceptions for exports, reexports, and transfers (in-country) when a listed entity is a party to the transaction. The license review policy for each listing is identified in the “License Review Policy” column on the Entity List, and the impact on the availability of license exceptions is described in the relevant Federal Register document that added the listing to the Entity List. BIS amends the Entity List pursuant to parts 744 (Control Policy: End-User and End-Use Based) and 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Entity List Decisions

Additions to the Entity List

The ERC determined to add the Beijing Academy of Artificial Intelligence and Beijing Innovation Wisdom Technology Co., Ltd. to the Entity List, under the destination of China. These entities are being added for acquiring and attempting to acquire U.S.-origin items in support of China's military modernization. Specifically, these entities have developed large artificial intelligence (AI) models and advanced computing chips for defense purposes. This activity is contrary to U.S. national security and foreign policy interests under § 744.11 of the EAR. For both of these entities, BIS imposes a license requirement for all items subject to the EAR, and a license review policy of a presumption of denial. They are also given a footnote 4 designation, which means that “items subject to the EAR” for the purpose of these license requirements include foreign-produced items that are subject to the EAR pursuant to § 734.9(e)(2) of the EAR.

The ERC determined to add six entities to the Entity List: Inspur (Beijing) Electronic Information Industry Co., Ltd.; Inspur Electronic Information Industry Co., Ltd.; Inspur Electronic Information (Hong Kong) Co., Ltd.; Inspur (HK) Electronics Co., Ltd.; and Inspur Software Co., Ltd., under the destination of China; and Inspur Taiwan, under the destination of Taiwan. These six entities are subsidiaries of China's leading cloud computing and big data service provider, Inspur Group, which was added to the Entity List on March 2, 2023. See Additions and Revisions of Entities to the Entity List, 88 FR 13673, March 6, 2023. These entities are being added for their contributions to Inspur's development of supercomputers for military end use, particularly by acquiring or attempting to acquire U.S.-origin items in support of supercomputer projects for the Chinese government and/or military. This activity is contrary to U.S. national security and foreign policy interests pursuant to § 744.11 of the EAR. For these entities, BIS imposes a license requirement for all items subject to the EAR, and license applications will be reviewed under policy of denial. These six subsidiaries directly contribute to Inspur's development of supercomputers for military end use and are added to the Entity List with a Footnote 4 designation. A footnote 4 designation means that “items subject to the EAR” for the purpose of these license requirements include foreign-produced items that are subject to the EAR pursuant to § 734.9(e)(2) of the EAR.

The ERC determined to add Henan Dingxin Information Industry Co., Ltd.; Nettrix Information Industry Co., Ltd.; Suma Technology Co., Ltd.; and Suma-USI Electronics Co., Ltd., under the destination of China, to the Entity List. These entities are being added for their involvement in the development of Chinese exascale supercomputers, which are capable of processing vast amounts of data at very high speeds and conducting large-scale simulations. Furthermore, these entities have provided significant manufacturing capabilities to Sugon, a Chinese high-performance computing server manufacturer added to the Entity List in 2019 for building supercomputers used by military end users and supporting China's destabilizing military modernization efforts. See Addition of Entities to the Entity List and Revision of an Entry on the Entity List, 84 FR 29371, June 24, 2019. The advancement of such computing technology in support of Chinese military end users and China's military modernization efforts is contrary to the national security and foreign policy interests of the United States, pursuant to § 744.11. Due to their involvement in Chinese exascale supercomputer development, these parties are added to the Entity List with a footnote 4 designation. For these four entities, BIS imposes a license requirement for all items subject to the EAR and license applications will be reviewed under policy of denial. The footnote 4 designation means that “items subject to the EAR” for the purpose of these license requirements include foreign-produced items that are subject to the EAR pursuant to § 734.9(e)(2) of the EAR.

For the reasons described above, this final rule adds the following 12 entities, including aliases where appropriate, to the Entity List:

China

• Beijing Academy of Artificial Intelligence;

• Beijing Innovation Wisdom Technology Co., Ltd.;

• Henan Dingxin Information Industry Co., Ltd.;

• Inspur (Beijing) Electronic Information Industry Co., Ltd.;

• Inspur Electronic Information Industry Co., Ltd.;

• Inspur Electronic Information (Hong Kong) Co., Ltd.;

• Inspur (HK) Electronics Co., Ltd.;

• Inspur Software Co., Ltd.;

• Nettrix Information Industry Co., Ltd.;

• Suma Techology Co., Ltd.; and

• Suma-USI Electronics Co., Ltd.

Taiwan

• Inspur Taiwan.

Savings Clause

For the changes being made in this final rule, shipments of items removed from eligibility for a License Exception or export, reexport, or transfer (in-country) without a license (NLR) as a result of this regulatory action that were en route aboard a carrier to a port of export, reexport, or transfer (in-country), on March 25, 2025, pursuant to actual orders for export, reexport, or transfer (in-country) to or within a foreign destination, may proceed to that destination under the previous eligibility for a License Exception or export, reexport, or transfer (in-country) without a license (NLR) before April 24, 2025. Any such items not actually exported, reexported or transferred (in-country) before midnight, on April 24, 2025, require a license in accordance with this final rule.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule. In particular, Section 1753 of ECRA (50 U.S.C. 4812) authorizes the regulation of exports, reexports, and transfers (in-country) of items subject to U.S. jurisdiction. Further, Section 1754(a)(1)-(16) of ECRA (50 U.S.C. 4813(a)(1)-(16)) authorizes, inter alia, establishing and maintaining a list of foreign persons and end uses that are determined to be a threat to the national security and foreign policy of the United States pursuant to the policy set forth in Section 1752(2)(A), and restricting exports, reexports, and in-country transfers of any controlled items to any foreign person or end use so listed; apprising the public of changes in policy, regulations, and procedures; and any other action necessary to carry out ECRA that is not otherwise prohibited by law. Pursuant to Section 1762(a) of ECRA (50 U.S.C. 4821(a)), these changes can be imposed in a final rule without prior notice and comment.

Rulemaking Requirements

1. This rule has been determined to be not significant for purposes of Executive Order 12866.

2. Notwithstanding any other provision of law, no person is required to respond to or be subject to a penalty for failure to comply with a collection of information, subject to the requirements of the Paperwork Reduction Act of 1995, 44 U.S.C. 3501 et seq., (PRA), unless that collection of information displays a currently valid Office of Management and Budget (OMB) Control Number. This regulation involves an information collection approved by OMB under control number 0694-0088, Simplified Network Application Processing System. BIS does not anticipate a change to the burden hours associated with this collection as a result of this rule. Information regarding the collection, including all supporting materials, can be accessed at https://www.reginfo.gov/public/do/PRAMain.

3. This rule does not contain policies with federalism implications as that term is defined in Executive Order 13132.

4. Pursuant to Section 1762 of ECRA, 50 U.S.C. 4821, this action is exempt from the Administrative Procedure Act (APA) 5 U.S.C. 553 requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects in 15 CFR Part 744

Exports, Reporting and recordkeeping requirements, Terrorism.

Accordingly, part 744 of the Export Administration Regulations (15 CFR parts 730-774) is amended as follows:

PART 744—END-USE AND END-USER CONTROLS

1. The authority citation for part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 18, 2024, 89 FR 77011 (September 20, 2024); Notice of November 7, 2024, 89 FR 88867 (November 8, 2024).

2. Supplement no. 4 is amended by:

a. Under CHINA, PEOPLE'S REPUBLIC OF, in alphabetical order, entries for “Beijing Academy of Artificial Intelligence;” “Beijing Innovation Wisdom Technology Co., Ltd.;” “Henan Dingxin Information Industry Co., Ltd.;” “Inspur (Beijing) Electronic Information Industry Co., Ltd.;” “Inspur Electronics Information Industry Co., Ltd.;” “Inspur Electronic Information (Hong Kong) Co., Ltd.;” “Inspur (HK) Electronics Co., Ltd.;” “Inspur Software Co., Ltd.;” “Nettrix Information Industry Co., Ltd.;” “Suma Techology Co., Ltd.;” “Suma-USI Electronics Co., Ltd.;” and

b. Under TAIWAN, adding, in alphabetical order, an entry for “Inspur Taiwan.”

The additions read as follows:

Supplement No. 4 to Part 744—Entity List

* * * * *

Country | Entity | License requirement | License review policy | Federal Register citation
* * * * * * *
CHINA, PEOPLE'S REPUBLIC OF | * * * * * *
| Beijing Academy of Artificial Intelligence, a.k.a., the following four aliases: —BAAI; —Zhiyuan Research Institute; —Beijing Zhiyuan Artificial Intelligence Research Institute; and —Zhiyuan. | For all items subject to the EAR. (Se §§ 734.9(e)(2) and 744.11 of the EAR) ⁴ | Presumption of denial | 90 FR [INSERT FR PAGE NUMBER AND March 28, 2025.
| No. 150 Chengfu Road, Haidian District, Beijing, China; and Building 8 No. 1, B201D-1, 3rd Floor, Zhongguancun East Road, Haidian District, Beijing, China.
| * * * * * *
| Beijing Innovation Wisdom Technology Co., Ltd., a.k.a., the following one alias: —Wisdom Technology. | For all items subject to the EAR. (See §§ 734.9(e)(2) and 744.11 of the EAR) ⁴ | Presumption of denial | 90 FR [INSERT FR PAGE NUMBER AND March 28, 2025.
| B201C-1, 3rd Floor, Building 8, No. 1, Zhongguancun East Road, Haidian District, Beijing, China.
| * * * * * *
| Henan Dingxin Information Industry Co., Ltd., a.k.a., the following one alias: —Henan Dingxin. Building 10, Xibeijiao, Intersection of Gongan Road and Xinwa Road, Gaozhuang Town, Chengxiang Yitihua Model Zone Anyang Henan, 455000, China. | For all items subject to the EAR. (See §§ 734.9(e)(2) and 744.11 of the EAR) ⁴ | Policy of denial | 90 FR [INSERT FR PAGE NUMBER AND March 28, 2025.
| * * * * * *
| Inspur (Beijing) Electronic Information Industry Co., Ltd., a.k.a., the following four aliases: —Langchao Beijing Electronic Information Co., Ltd.; —Inspur Beijing Electronic Information Technology; —Inspur Beijing Company; and —Langchao (Beijing) Electronic Information Industry Co., Ltd. | For all items subject to the EAR. (See §§ 734.9(e)(2) and 744.11 of the EAR) ⁴ | Policy of denial | 90 FR [INSERT FR PAGE NUMBER AND March 28, 2025.
| 1st Floor, No. 2-1 C Building, No. 2 Shangdi Xinxi Road, Haidian District, Beijing, China; and 6/F, Building C, Chuangyeyuan, Shangdi, Haidian District, Beijing, China; and No. 224, Shan Da Road, Beijing, China.
| Inspur Electronic Information Industry Co., Ltd., a.k.a., the following eight aliases: —Inspur Information; —IEIT Systems Co. Ltd.; —Incumber Electronic Information Industry Co., Ltd.; —Incubic Electronic Information Industry Co., Ltd.; —Incorphor Electronic Information Industry Co., Ltd.; —Wave Electronic Information Industry Co., Ltd.; —Chao Chao Electronic Information Industry Co., Ltd.; and —IEII. | For all items subject to the EAR. (See §§ 734.9(e)(2) and 744.11 of the EAR) ⁴ | Policy of denial | 90 FR [INSERT FR PAGE NUMBER AND March 28, 2025.
| Floor 9, No. 801, Caoshanlingnang Road, Jinan, China; and No. 1036, Inspur Road, Jinan City, Shandong Province, China; and No. 1036, Wave Road, Jinan City, Shandong Province, China; and No. 1036 Langchao Road, Jinan, China; and 1026 Langchao Road, Jinan, China; and S01 Langchao Tech Park, No. 1036 Langchao Rd., Gaoxin District, Jinan, China; and 2877 Ke Hang Road, Jinan, Shandong Province, China; and 4F, Gangsheng Building, Intersection of Gangxi Road, Jinan, China; and No. 818 Wusong Road, Wusongjiang, Jinan, China; and Gansheng Building Ganyuan 6th, Shandong, China; and 10/F Ever Gain Centre, 28 on Muk Street, Sha Tin NT, Hong Kong; and 7A, Ho Tung Garden, Ho Tung Bridge, Sheng Shui, Hong Kong; and Unit 307, Block B, Po Lung Center, 11 Wang Chiu Road, Kowloon Bay, Kowloon, Hong Kong; and Koon Wah Mirror Factory, Hotin Street, Tuen Mun, Hong Kong; and Room 1203, Free Trade Centre 49, Tsun Yip Street, Kwun Tong Kowloon, Hong Kong; and 7th Floor, Unit 3C2 Sunac Smart Valley, No. 555 Wenhua, Wuhan, China; and Building 9, No. 1 Guanpu Road Guoxiang Street, Wuzhong Economic Zone, Suzhou Jiangsu, China; and F202, 16 Lixin Road, Shenzhen, China; and Unit 2901 Duhuixuan Shennan Road, Shenzhen, China.
| Inspur Electronic Information (Hong Kong) Co., Ltd., a.k.a., the following four aliases: —Inspur Information (Hong Kong); —Inspur Information Hong Kong; —Incumber Electronic Information (Hong Kong) Co., Ltd.; and —Inspur Information HK International Limited. | For all items subject to the EAR. (See §§ 734.9(e)(2) and 744.11 of the EAR) ⁴ | Policy of denial | 90 FR [INSERT FR PAGE NUMBER AND March 28, 2025.
| Flat B&C, 30/F., Tower A, Billion Centre, 1 Wang Kwong Road, Kowloon Bay, Kowloon, Hong Kong.
| Inspur (HK) Electronics Co., Ltd., a.k.a., the following two aliases: —Inspur (Hong Kong) Electronics Co., Ltd.; and —Inspur (Hong Kong) Electronics. | For all items subject to the EAR. (See §§ 734.9(e)(2) and 744.11 of the EAR) ⁴ | Policy of denial | 90 FR [INSERT FR PAGE NUMBER AND March 28, 2025.
| Room B&C 30th Floor, Block A, Billion Center, No. 1 Wang Kwong Road, Kowloon Bay, Hong Kong; and Unit 307, Block B, Po Lung CTR 1, Hong Kong; and No. 11 Wang Chiu Road, Hong Kong; and Room 5/F 5015E-5020E, Block B, ASI, Kwai Chung, Hong Kong.
| Inspur Software Co., Ltd., a.k.a., the following five aliases: —Hadong Inspur Software Co., Ltd.; —Shandong Langchao Cheeloosoft Co., Ltd; —Inspur Software; —Wave Software; and —Ren Chao Software Co., Ltd. | For all items subject to the EAR. (See §§ 734.9(e)(2) and 744.11 of the EAR) ⁴ | Policy of denial | 90 FR [INSERT FR PAGE NUMBER AND March 28, 2025.
| Middle Section of Hu Shan Road, Tai'an City, China; and No. 1036, Langchao Road, Jinan City, Tai'an City, China; and Building No. 102, No. 1036, High-tech Road, Jinan City, Shandong Province, China; and No. 1036, Inspur Road, Hi-Tech Zone, Jinan, Shandong, 250101, China; and No. 1036 Langchao Road, Shunhua Road Street, High-tech Zone Jinan, Shandong, 250000, China.
| * * * * * *
| Nettrix Information Industry Co., Ltd., a.k.a., the following three aliases: —Netrix; —Ningchang Information Industry (Beijing) Co., Ltd. and —Nettrix Information Industry (Beijing) Co., Ltd. | For all items subject to the EAR. (See §§ 734.9(e)(2) and 744.11 of the EAR) ⁴ | Policy of denial | 90 FR [INSERT FR PAGE NUMBER AND March 28, 2025.
| 2nd Floor, Block C, No. 27, Phase I, Zhongguancun Software Park, No. 8 Dongbeiwang West Road, Beijing, China; and 3rd Floor, Building 25 , No. 8 Dongbeiwang West Road, Beijing, China; and No. 15, Haitai Huake Street, Huayuan Industrial Zone Tianjin, China; and Building A, No. 66, Yuhua West Road, Shijiazhuang, Hebei, China; and Unit 3, Building 4, Shuiquan Wenyuan, Genghis Khan Street, Hohhot, Inner Mongolia Autonomous Region, China; and Unit 1, Building 7, Jiajing Garden, Taiyuan, Shanxi, China; and Floor 7204, No. 1180, Yumin Road, Yecheng Fifth Street, Shanghai, China; and No. 88, Nansong Road, Kunshan, Jiangsu, China; and 16th Floor, Building A, Lianhui Technology Innovation Center, No. 88 Lianhui Street, Hangzhou, Zhejiang, China; and Unit 2, Building 4, No. 17, Wuyi East Road, Jiangnan District, Nanning, Guangxi, China; and 16th Floor, Building S7, No. 20, Fusan Road, Fuzhou, Fujian, China; and 3rd Floor, Xingchuang Future Technology Park, Hainan Building, No. 5 Guoxing Avenue, Haikou, Hainan, China; and 19th Floor, Unit 3, 2008 New Yangtze River Plaza, No. 2 Youyi Avenue, Wuhan, Hubei, China; and 16th Floor, Zhonghong Plaza, Jiefang East Road, Jinan, Shandong, China; and 6th Floor, Building 6, No. 1 Tongtai Road, Zhengzhou, Henan, China; and Building 2B, Lugulinyu Community, No. 408, Tongzipo West Road, Changsha, Hunan, China; and Unit 2, Building 51, No. 1269, Hubin East Road, Nanchang, Jiangxi, China; and Building 16, No. 69, Furong East Road, Xi'an, Shaanxi, China; and 21st Floor, Building 5, Jiuzhou East Ring Road, Jingyuan Road, Lanzhou, Gansu, China; and Unit 5, Building 8, No. 46, Xichuan South Road, Xining, Qinghai, China; and Apartment 310, Commercial and Residential Building No. 4, Xinchang West Road, Yinchuan, Ningxia Hui Autonomous Region, China; and Unit 2, Building 10, No. 1170, Liyushan South Road, Urumqi, Xinjiang Uygur Autonomous Region, China; and No. 8-8, Jinshan South Road, Shenyang, Liaoning, China; and 4th Floor, Building 10, No. 12, Jidian Street, Harbin, Heilongjiang, China; and Building C2, Bingshiqi Road, Changchun, Jilin, China; and Building 10, No. 518, Section 1, Huafu Avenue, Chengdu, Sichuan, China; and Building 1, No. 818, Jiangjun Road, Chongqing, China; and No. 204, Building 5, No. 715, Chuanjin Road, Kunming, Yunnan China; and 20th Floor, Building C7, Desheng Jiangjunshan New Town, Guiyang, Guizhou, China; and Unit 1, Building 2, Gaodujiang South Bank, Lhasa, Tibet Autonomous Region, 1801, China.
| * * * * * *
| Suma Techology Co., Ltd., a.k.a., the following five aliases: —Suma; —Zhongke Controllable Information Industry Co., Ltd.,; —CANCON; —Zhongke Controllable (Hubei) Information Co., Ltd.; and —Zhongke Controllable (Hunan) Information Co., Ltd. | For all items subject to the EAR. (See §§ 734.9(e)(2) and 744.11 of the EAR) ⁴ | Policy of denial | 90 FR [INSERT FR PAGE NUMBER AND March 28, 2025.
| No. 88, Nansong Rd., Yushan Town, Kunshan, Jiangsu, China; and Room 2, Floor 3, Kam Hon Industrial Building, Wang Kwun Road, Kowloon Bay, Hong Kong; and No. 666, Wuhuan Avenue, Wuhan Airport Economic and Technological Development Zone, Dongxihu District, Wuhan City, Hubei Province, China; and Room 101-03, R&D Building, No. 1-1, Sanyi Road, Changsha Economic and Technological Development Zone, China.
| Suma-USI Electronics Co., Ltd., a.k.a., the following two aliases: —Suma-USI; and —Zhongke Hongtai Electronics Co., Ltd. | For all items subject to the EAR. (See §§ 734.9(e)(2) and 744.11 of the EAR) ⁴ | Policy of denial | 90 FR [INSERT FR PAGE NUMBER AND March 28, 2025.
| No. 89, Yanhui Road, Yushan town, Kungshan, Jiangsu Province, China; and Building 8, No. 232, Yuanfeng Road, Yushan East, Jiangsu, China; and Building 1, No. 88, Nansong Road, Yushan Town, Kunshan, Jiangsu, China.
* * * * * * *
| * * * * * *
TAIWAN | Inspur Taiwan, a.k.a., the following three aliases: —Number Media Ltd.; —Inspur Taiwan—R&D Center; and —Digital Cloud Ltd. | For all items subject to the EAR. (See §§ 734.9(e)(2) and 744.11 of the EAR) ⁴ | Policy of denial | 90 FR [INSERT FR PAGE NUMBER AND March 28, 2025.
| No. 16 Xinzhan Rd Banqiao District, New Taipei City, Taiwan.
| * * * * * *
* * * * * * *
* * * * * * *
⁴ For this entity, “items subject to the EAR” includes foreign-produced items that are subject to the EAR under § 734.9(e)(2) of the EAR. See § 744.11(a)(2)(iv) for related license requirements and license review policy.
* * * * * * *

Julia Khersonsky,
Deputy Assistant Secretary for Strategic Trade.

[FR Doc. 2025-05427 Filed 3-25-25; 4:30 pm]

BILLING CODE 3510-33-P